INTERNATIONAL TRADE COMMISSION

[Investigation No. 337-TA-454]

Notice of a Commission Determination Not To Review an Initial Determination Terminating the Investigation With Respect to Certain Patent Claims

In the Matter of Certain Set-Top Boxes and Components Thereof

AGENCY: U.S. International Trade Commission.

ACTION: Notice.

SUMMARY: Notice is hereby given that the U.S. International Trade Commission has determined not to review the presiding administrative law judge's (“ALJ's”) initial determination (“ID”) granting a motion to terminate the investigation with respect to all allegations contained in the complaint relating to U.S. Letters Patent 5,253,066 (the '066 patent), claims 8 and 10 of U.S. Letters Patent 5,479,268 (the '268 patent), and claims 19 and 35 of U.S. Letters Patent 5,809,204 (the '204 patent).

FOR FURTHER INFORMATION CONTACT: Mary Elizabeth Jones, Esq., Office of the General Counsel, U.S. International Trade Commission, telephone (202) 205-3106. Copies of the subject ID and all other nonconfidential documents filed in connection with this investigation are or will be available for inspection during official business hours (8:45 a.m. to 5:15 p.m.) in the Office of the Secretary, U.S. International Trade Commission, 500 E Street, SW, Washington, DC 20436, telephone 202-205-2000. Hearing-impaired persons are advised that information on this matter can be obtained by contacting the Commission's TTD terminal on 202-205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on March 16, 2001, based on a complaint by Gemstar-TV Guide International, Inc. of Pasadena, California, and StarSight Telecast, Inc. of Fremont, California, alleging violations of section 337 of the Tariff Act of 1930 in the importation into the United States, the sale for importation, and the sale within the United States after importation of certain set-top boxes and components thereof by reason of infringement of claims 18-24, 26-28, 31-33, 36, 42-43, 48-51, 54, 57-61, and 66 of U.S. Letters Patent 5,253,066 (the '066 patent); claims 1, 3, 8, and 10 of U.S. Letters Patent 5,479,268 (the '268 patent); and claims 14-17, 19, and 31-35 of U.S. Letters Patent 5,809,204 (the '204 patent).

On November 19, 2001, complainants Gemstar-TV Guide International, Inc. and StarSight Telecast, Inc. moved to termination the investigation with respect to all allegations contained in the complaint relating to the '066 patent, claims 8 and 10 of the '268 patent, and claims 19 and 35 of the '204 patent. Respondents EchoStar Communications Corporation and SCI Systems, Inc. opposed termination of the investigation as to the '066 patent.

On November 20, 2001, the presiding ALJ issued an ID (Order No. 44) granting the motion. No petitions for review of the ID were filed.

This action is taken under the authority of section 337 of the Tariff Act of 1930, as amended, 19 U.S.C. 1337, and Commission rule 210.42, 19 CFR 210.42.

By order of the Commission.
Issued: January 30, 2002.
Marilyn R. Abbott,
Acting Secretary.

[FR Doc. 02-2647 Filed 2-4-02; 8:45 am]

BILLING CODE 7020-02-P